DEPARTMENT OF JUSTICE

Notice of Lodging of Proposed Consent Decree Under the Clean Air Act

On April 27, 2023, the Department of Justice lodged a proposed First Material Modification to the Consent Decree entered by the United States District Court for the Western District of Texas on September 28, 2016, in the lawsuit entitled United States, et. al v. Tesoro Refining & Marketing Company, LLC et al., Civ. A. No: SA-16-cv-00722. The Consent Decree resolved the United States and several states' claims under the Clean Air Act, 42 U.S.C. 7413, alleged in the Complaint at six petroleum refineries in six states. This First Material Modification only addresses the Martinez, California Refinery which is owned and operated by Defendant Tesoro Refining & Marketing Company, LLC. The proposed modification requires Tesoro to pay a penalty of $27.5 million dollars for violations of the Consent Decree and Clean Air Act, implement various injunctive relief to assure compliance with specified emissions standards whether it engages in petroleum refining or renewable fuel production at the facility, and retire emissions credits to mitigate the harm from its violations.

The publication of this notice opens a period for public comment on the Consent Decree. Comments should be addressed to the Assistant Attorney General, Environment and Natural Resources Division, and should refer to United States v. Tesoro Refining & Marketing Company, LLC, D.J. Ref. No 90-5-2-1-09512/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $71.75 (25 cents per page reproduction cost) payable to the United States Treasury.

Susan M. Akers,
Deputy Section Chief, Environmental Enforcement Section, Environment and Natural Resources Division.

[FR Doc. 2023-09329 Filed 5-2-23; 8:45 am]

BILLING CODE 4410-15-P